DEPARTMENT OF TRANSPORTATION

Coast Guard

33 CFR Part 117

[CGD01-00-126]

Drawbridge Operation Regulations; Fort Point Channel, MA

AGENCY: Coast Guard, DOT.

ACTION: Notice of temporary deviation and request for comments.

SUMMARY: The Commander, First Coast Guard District has issued a temporary 90 day deviation from the existing drawbridge operation regulations for the Northern Avenue Bridge, mile 0.1, at Boston, Massachusetts. This deviation will require the bridge to open on signal from 6 a.m. to 8 p.m. and from 8 p.m. to 6 a.m. after a two-hour advance notice is given. The bridge presently does not open for vessel traffic between 8 p.m. and 6 a.m. This deviation is necessary in order to test an alternate drawbridge operation schedule.

DATES: This deviation is effective from June 7, 2000 through September 4, 2000. Comments must reach the Coast Guard on or before September 30, 2000.

ADDRESSES: You may mail comments to Commander (obr), First Coast Guard District, Bridge Branch, at 408 Atlantic Avenue, Boston, MA. 02110-3350, or deliver them at the same address between 7 a.m. and 3 p.m., Monday through Friday, except Federal holidays. The telephone number is (617) 223-8364.

FOR FURTHER INFORMATION CONTACT: Mr. John McDonald, Project Officer, First Coast Guard District, (617) 223-8364.

SUPPLEMENTARY INFORMATION:

Request for Comments

We encourage you to participate in this notice by submitting comments or related material. If you do so, please include your name and address, identify the docket number for this notice (CGD01-00-126), indicate the specific section of this document to which each comment applies, and give the reason for each comment. Please submit all comments and related material in an unbound format, no larger than 8½ by 11 inches, suitable for copying. If you would like to know if they reached us, please enclose a stamped, self-addressed postcard or envelope. We will consider all comments and material received during the comment period.

Background and Purpose

The Northern Avenue Bridge, mile 0.1, across the Fort Point Channel has a vertical clearance of 7 feet at mean high water and 17 feet at mean low water in the closed position. The existing operating regulations in 33 CFR 117.599 require the bridge to open on signal from 6 a.m. to 8 p.m. From 8 p.m. to 6 a.m., the bridge need not open for the passage of vessels.

The Coast Guard received a request from a commercial vessel operator requesting a change to the operating regulations for the Northern Avenue Bridge. The commercial operator has a vessel that can not transit through the bridge without a bridge opening and would like the bridge to open for vessel traffic during the 8 p.m. to 6 a.m. time period when the bridge is normally closed.

Under the test deviation, the Northern Avenue Bridge, mile 0.1, across the Fort Point Channel at Boston, from June 7, 2000 through September 4, 2000, will continue to open on signal from 6 a.m. to 8 p.m. From 8 p.m. to 6 a.m., the bridge will open on signal if at least a two-hour notice is given by calling the number posted at the bridge.

It is expected that this deviation will meet the present needs of navigation.

This deviation from the normal operating regulations is authorized under 33 CFR 117.43.

Dated: April 18, 2000.
G.N. Naccara,
Rear Admiral, U.S. Coast Guard Commander, First Coast Guard District.

[FR Doc. 00-10453 Filed 4-26-00; 8:45 am]

BILLING CODE 4910-15-U